FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 13, 2010.

A. Federal Reserve Bank of San Francisco (Kenneth Binning, Vice President, Applications and Enforcement) 101 Market Street, San Francisco, California 94105-1579:

1. Marc Jonathan Foulkrod, Moorpark, California; to acquire additional voting shares of Mission Valley Bancorp, Sun Valley, California, and thereby indirectly acquire shares of Mission Valley Bank, Sun Valley, California.

Board of Governors of the Federal Reserve System, November 23, 2010.
Robert deV. Frierson,
Deputy Secretary of the Board.

[FR Doc. 2010-29998 Filed 11-29-10; 8:45 am]

BILLING CODE 6210-01-P